ENVIRONMENTAL PROTECTION AGENCY

40 CFR Part 52

[MD146-3106; FRL-7603-5]

Approval and Promulgation of Air Quality Implementation Plans; Maryland; The 2005 ROP Plan for the Baltimore Severe One-Hour Ozone Nonattainment Area: Revisions to the Plan's Emissions Inventories and Motor Vehicle Emissions Budgets To Reflect MOBILE6

AGENCY: Environmental Protection Agency (EPA).

ACTION: Proposed rule.

SUMMARY: EPA is proposing to approve State Implementation Plan (SIP) revisions submitted by the State of Maryland. These revisions amend the Baltimore severe 1-hour ozone nonattainment area's (the Baltimore area's) rate-of-progress (ROP) plan for the 2005 milestone year. The intent of these revisions is to update the plan's emission inventories and motor vehicle emissions budgets (MVEBs) to reflect the use of MOBILE6 while continuing to demonstrate that the ROP requirement for 2005 will be met. The State of Maryland also submitted revisions which amend the contingency measures associated with the 2005 ROP plan. These revisions are being proposed for approval in accordance with the Clean Air Act (the Act).

DATES: Written comments must be received on or before January 29, 2004.

ADDRESSES: Comments may be submitted either by mail or electronically. Written comments should be mailed to Martin T. Kotsch, Mailcode 3AP23, U.S. Environmental Protection Agency, Region III, 1650 Arch Street, Philadelphia, Pennsylvania 19103. Electronic comments should be sent either to Kotsch.Martin@EPA.gov or to http://www.regulations.gov, which is an alternative method for submitting electronic comments to EPA. To submit comments, please follow the detailed instructions described in Part 4 of the SUPPLEMENTARY INFORMATION section. Copies of the documents relevant to this action are available for public inspection during normal business hours at the Air Protection Division, U.S. Environmental Protection Agency, Region III, 1650 Arch Street, Philadelphia, Pennsylvania 19103; Maryland Department of the Environment, 1800 Washington Boulevard, Suite 705, Baltimore, Maryland 21230.

FOR FURTHER INFORMATION CONTACT: Martin T. Kotsch, Energy, Radiation and Indoor Environment Branch, U.S. Environmental Protection Agency, 1650 Arch Street, Mail Code 3AP23, Philadelphia Pennsylvania 19103-20209, (215) 814-3335, or by e-mail at Kotsch.Martin@epa.gov.

SUPPLEMENTARY INFORMATION:

I. Clean Air Act Requirements

The Clean Air Act (the Act) requires that for certain ozone nonattainment areas, states are to submit plans demonstrating a reduction in volatile organic compound (VOC) emissions of at least three percent per year, grouped in consecutive three year periods, through the area's designated attainment date. This is known as the rate-of-progress (ROP), also referred to as the reasonable further progress (RFP), requirement of the Act. The first ROP requirement covers the period 1990-1996 and is commonly known as the 15 Percent Plan. Subsequent reductions are required by the end of serial three year intervals beginning after the milestone year 1996 (i.e., ROP milestone years for the Baltimore area are 1999, 2002, 2005). Section 182(c)(2)(C) of the Act allows states to substitute nitrogen oxides (NOX) emission reductions for VOC emission reductions in post-1996 ROP plans. To qualify for SIP credit in ROP plans, emission reduction measures, whether mandatory under the Act or adopted at the state's discretion, must ensure real, permanent and enforceable emission reductions.

Section 172(c)(9) of the Act requires ozone nonattainment, areas, classified as moderate or above nonattainment, to adopt contingency measures to be implemented should the area fail to achieve ROP or to attain the National Ambient Air Quality Standard (NAAQS) for ozone by its statutory attainment date. In addition, section 182(c)(9) of the Act requires ozone nonattainment areas classified as serious or above nonattainment to adopt contingency measures to be implemented if the area fails to meet any applicable milestone.

Under EPA's transportation conformity rule, an ROP plan is a “control strategy” SIP (62 FR 43780, August 15, 1997). Among other things, a control strategy SIP identifies and establishes the motor vehicle emissions budgets (MVEBs) to which an area's transportation improvement program and long range transportation plan must conform. Conformity to a control strategy SIP means that transportation activities will not produce new air quality violations, worsen existing violations, or delay timely attainment of the NAAQS. The State of Maryland is required to identify MVEBs for both NOX and VOCs in the Baltimore area's ROP plan for the 2005 milestone year.

EPA previously approved the 2005 ROP plan for the Baltimore area (66 FR 48209, September 19, 2001) which included mobile emissions inventories for the years 1990 and 2005 and identified MVEBs for the milestone year 2005 based on the EPA emissions model MOBILE5.

The attainment date for the Baltimore severe ozone nonattainment area is 2005. This rulemaking addresses the SIP revisions submitted by the Maryland Department of the Environment (MDE) to amend the Baltimore area's 2005 ROP plan to reflect the use of the new EPA emissions model MOBILE6. In this rulemaking, EPA is proposing to approve these revisions to the Baltimore area's ROP plan for the 2005 attainment year.

II. Maryland's SIP Revisions

On November 3, 2003, MDE submitted proposed SIP revisions, and requested that EPA parallel process its approval of those SIP revisions concurrent with the State's process for amending its SIP. As previously stated, these proposed SIP revisions revise the 1990 and 2005 motor vehicle emissions inventories and the 2005 MVEBs of the Baltimore area's 2005 ROP plan to reflect the use of MOBILE6. The November 3, 2003 submittal demonstrates that the new levels of motor vehicle emissions calculated using MOBILE6 continue to demonstrate the required ROP for the Baltimore area by 2005.

Table 1 below summarizes the revised motor vehicle emissions inventories for the Baltimore area in tons per day (tpd). The revised 1990 base year inventories were updated using the MOBILE6 model. The 2005 inventories were developed using MOBILE6 and the latest planning assumptions, including 2002 vehicle registration data, vehicle miles traveled (VMT), speeds, fleet mix, and SIP control measures.

Table 1.—Maryland's Revised Motor Vehicle Emissions Inventories
Nonattainment area | 1990: VOC (tpd) | 1990: NOX (tpd) | 2005: VOC (tpd) | 2005: NOX (tpd)
Baltimore | 165.14 | 228.21 | 55.3 | 146.9

EPA has articulated its policy regarding the use of MOBILE6 in SIP development in its “Policy Guidance on the Use of MOBILE6 for SIP Development and Transportation Conformity”.¹EPA's policy guidance required the State to consider whether growth and control strategy assumptions for non-motor vehicle sources (i.e., point, area, and non-road mobile sources) were still accurate at the time the November 3, 2003 submittal was developed. Maryland reviewed the growth and control strategy assumptions for non-motor vehicle sources, revised those which were not current and concluded that the remaining assumptions continue to be valid for the 2005 ROP plan.

¹ Memorandum, “Policy Guidance on the Use of MOBILE6 for SIP development and Transportation Conformity,” issued January 18, 2002. A copy of this memorandum can be found on EPA's Web site at http://www.epa.gov/otaq/transp/traqconf.htm.

Maryland's November 3, 2003 submittal satisfies the conditions outlined in EPA's MOBILE6 Policy guidance, and demonstrates that the new levels of motor vehicle emissions calculated using MOBILE6 continue to support ROP for the projected attainment of the 1-hour ozone NAAQS by the attainment date of 2005 for the Baltimore area.

The Revised Motor Vehicle Emissions Budgets (MVEBs)

Table 2 below summarizes the revised MVEBs identified in MDE's November 3, 2003 submittal to EPA. These MVEBs were developed using the latest planning assumptions, including 2002 vehicle registration data, VMT, speeds, fleet mix, and SIP control measures. Because Maryland's November 3, 2003 submittal satisfies the conditions outlined in EPA's MOBILE6 Policy guidance, and demonstrates that the new levels of motor vehicle emissions calculated using MOBILE6 continue to support ROP for the projected attainment of the 1-hour NAAQS for ozone by the Baltimore area's November 15, 2005 attainment date, EPA is proposing to approve these budgets.

Table 2.—Maryland Motor Vehicle Emissions Budgets
Nonattainment area | 2005 ROP: VOC (tpd) | 2005 ROP: NOX (tpd)
Baltimore | 55.05 | 144.5

III. EPA Evaluation of Maryland's Submittal

A. Rate-of-Progress (ROP) Plan

(1) Calculation of Needed Reductions—The first step in demonstrating ROP is to determine the target level of allowable emissions for the ROP milestone year. The target level of emissions represents the maximum amount of emissions that can be emitted in a nonattainment area in the given ROP milestone year, which in this case is 2005. The Act allows states to substitute NOX emission reductions for VOC emission reductions in post-1996 ROP plans. The required ROP is demonstrated when the sum of all creditable VOC and NOX emission reductions equal at least 3 percent per year grouped in three year periods (i.e., 2002-2005), or for a total of 9 percent. If a state wishes to substitute NOX for VOC emission reductions, then a target level of emissions demonstrating a representative combined 9 percent emission reduction in VOC and NOX emissions must be developed for that milestone year. EPA approved the attainment demonstration for the Baltimore area on October 30, 2001 (66 FR 54687). The attainment demonstration modeling for the Baltimore area establishes that NOX reductions are necessary to bring the area into attainment. Because NOX reductions are necessary to attain the 1-hour NAAQS for ozone in the Baltimore area, MDE may and does use NOX reductions to demonstrate ROP in the Baltimore area. MDE developed NOX target levels to account for the NOX substitution. The process for calculating the revised 2005 target levels to account for all required ROP reductions and noncreditable reductions (for each milestone year these exclude from the baseline those emissions that would be eliminated by the Federal Motor Vehicle Control Program, FMVCP, and Reid Vapor Pressure, RVP, regulations promulgated prior to enactment) ² in baseline emissions is as follows:

² Section 182(b)(1)(B) of the Act defines the baseline year of emissions as “the total amount of actual VOC and NOX emissions from all anthropogenic sources in the area during the calendar year of 1990. This section prohibits crediting the ROP plan with the reductions in the baseline the emissions that would be eliminated by the FMVCP regulations promulgated by January 1, 1990. It also excludes any reductions associated from the RVP regulations promulgated at the time of enactment.

(a) Develop the base year emissions inventories for NOX and VOCs.

(b) Develop the 1990 ROP base year inventory (by subtracting biogenic emissions and sources located outside the nonattainment area from the base year inventory).

(c) Calculate the 1990 adjusted base year inventories for each milestone year (which in the case of Baltimore are 1996, 1999, 2002 and 2005) by reducing the 1990 ROP inventory by the total noncreditable FMVCP/RVP reductions to occur by that year.

(d) Calculate the required ROP reduction required for each milestone year: For VOC this entails multiplying the 1990 adjusted VOC base year inventory for 1996 by 15 percent and multiplying the 1990 adjusted VOC base year inventory for 1999 and later milestone years by the percentage of required ROP reductions to be achieved through VOC control measures; for NOX, this entails multiplying the 1990 adjusted NOX base year inventory for 1999 and later milestone years by the percentage of required ROP reductions to be achieved through NOX substitution.

(e) Calculate the fleet turnover correction term for each milestone year: The fleet turnover correction is the difference between the FMVCP/RVP emission reductions calculated in step (c) for one milestone year and that for the previous milestone year; it is also the difference between the 1990 adjusted base year inventory for one milestone year and that of the following milestone year ³.

³ The aggregate noncreditable FMVCP/RVP reductions increase over time, and conversely, the 1990 adjusted base year inventory decreases over time. Thus the aggregate noncreditable FMVCP/RVP reductions through 2005 are larger than those for 2002, and the 1990 adjusted base year inventory for 2005 is less than that for 2002. The sum of the aggregate noncreditable FMVCP/RVP reductions up to and including those achieved in a milestone year and of the 1990 adjusted base year inventory for that year is always equal to the ROP base year inventory.

(f) Calculate the revised target level of emissions for the 2005 milestone year, by subtracting the sum of all the fleet turnover corrections, the sum of all the required ROP reductions for all milestone years from the 1990 ROP base year inventory.

Tables 3 and 4 below summarize the target level calculations for both NOX and VOC emissions for the 2005 ROP milestone year. Using a combination of VOC and NOX emission reductions, MDE's target level calculations show that the 2005 target level for VOC incorporates the 15 percent ROP reduction in baseline emissions by 1996, and show that the VOC and NOX 2005 target levels incorporate at least a 9 percent total ROP reduction in baseline emissions for all milestone years, namely 1999, 2002 and 2005, after 1996. The MDE has correctly calculated the 2005 target levels for the Baltimore area.

Table 3.—Baltimore Area 2005 VOC Target Level
Row | Description | VOC (tpd)
0 | 1990 Base Year Inventory | 554.29
| (Minus biogenic emissions) | (-180.09)
1 | 1990 Rate-of-Progress Base-Year Inventory | 374.20
| 1990 Inventory Adjusted to 1996 | 296.30
2 | Reduction Required for 15% VOC Rate-of-Progress | 44.445
3 | Fleet Turnover Correction 1990 to 1996 | 77.9
| 1990 Inventory Adjusted to 1999 | 286.59
4 | Reduction Required for 1999 Rate-of-Progress to 1999: 0.15% VOC and 8.85% NOX | 0.43
5 | Fleet Turnover Correction 96 to 99 | 9.7
| 1990 Inventory Adjusted to 2002 | 279.4
6 | Reduction Required for 2002 Rate-of-Progress: 2.5% VOC and 6.5% NOX | 6.99
7 | Fleet Turnover Correction 1999 to 2002 | 7.19
| 1990 Inventory Adjusted to 2005 | 274.43
8 | Reduction Required for 2005 Rate-of-Progress: 0.38% VOC and 8.62% NOX | 1.05
9 | Fleet Turnover Correction | 4.97
10 | 2005 Target Level is row one minus the sum of rows two through nine | 221.53

Table 4.—Baltimore Area NOX Target Level
Row | Description | NOX (tpd)
1 | 1990 Rate-of-Progress Base-Year Inventory | 536.60
| 1990 Inventory Adjusted to 1999 | 487.30
2 | Reduction Required for Rate-of-Progress to 1999: 0.15% VOC and 8.85% NOX | 43.13
3 | Fleet Turnover Correction 90 to 99 | 49.3
| 1990 Inventory Adjusted to 2002 | 472.40
4 | Reduction Required for Rate-of-Progress: 2.5% VOC and 6.5% NOX | 30.71
5 | Fleet Turnover Correction 1999 to 2002 | 14.90
| 1990 Inventory Adjusted to 2005 | 458.86
6 | Reduction Required for Rate-of-Progress: 0.38% VOC and 8.62% NOX | 39.54
7 | Fleet Turnover Correction | 13.54
8 | 2005 Target Level = row one minus the sum of rows two through seven | 345.49

The methodologies used by MDE to project emissions growth and EPA's evaluation are discussed in the technical support document (TSD) prepared in support of this proposed rulemaking action. Maryland used appropriate methodologies to project emissions growth in all source categories. The projection year inventories for NOX and VOCs for the 2005 attainment year are shown in Tables 5 and 6 below. EPA has determined that these growth estimates are approvable.

Table 5.—Baltimore Projected (Uncontrolled) VOC Emissions
Source Category | 1990 VOC baseline (tpd) | 2005 VOC projected (tpd)
Point | 42.0 | 54.2
Mobile | 165.1 | 91.8
Nonroad | 44.7 | 55.76
Area | 122.4 | 132.2
Total | 374.2 | 321.67

Table 6.—Baltimore Projected (Uncontrolled) NOX Emissions
Source category | 1990 NOX baseline (tpd) | 2005 NOX projected (tpd)
Point | 223.2 | 251.9
Mobile | 228.2 | 199.8
Nonroad | 71.5 | 91.84
Area | 13.7 | 15.4
Total | 536.6 | 558.94

(2) Evaluation of Emission Control Measures—The purpose of the ROP plan is to demonstrate how the state has reduced emissions 3 percent per year, grouped in three year intervals, through the area's attainment year. In general, reductions toward ROP requirements are creditable provided the control measures occurred after 1990 and are real, permanent, quantifiable, federally enforceable and they occurred by the applicable ROP milestone year. An evaluation of each of the control measures implemented by Maryland in the Baltimore nonattainment area can be found in the TSD prepared for this rulemaking. Table 7 below provides a summary of the control measures used by Maryland to achieve ROP in the Baltimore nonattainment area. All control measures in the ROP demonstration have been adopted and implemented by the State of Maryland or are Federal measures being implemented nationally. All but one of the state control measures have been fully approved by EPA into the Maryland SIP and are permanent and enforceable. Final approval of the November 3, 2003 revisions are contingent upon EPA's approval of Maryland's new consumer product rule (COMAR 26.11.32) which was submitted to EPA on November 19, 2003 and was proposed by EPA for direct final approval on December 9, 2003 (68 FR 68523). The mobile source control programs include the total amount of reductions associated with enhanced vehicle inspection and maintenance, Tier 1 and Tier 2 motor vehicle emission standards, reformulated gasoline, the National Low Emissions Vehicle program, and highway heavy duty diesel engine standards. EPA's MOBILE6 emissions model was used to generate the mobile source emission reductions.

Table 7.—Summary of ROP Emission Control Measures for Baltimore
Control measure | 2005 VOC reduction (tpd) | 2005 NOX reduction (tpd)
Mobile Source Control Programs | *36.75 | *55.3
Stage II Refueling | *12.65 | 0.00
Landfills | 0.27 | 0.00
Open Burning | *3.52 | *0.74
Surface Cleaning/Degreasing | 5.76 | 0.00
Architectural Coatings | 5.55 | 0.00
Consumer Products | 2.83 | 0.00
Autobody Refinishing | 8.07 | 0.00
Nonroad Small Gas Engines | 17.51 | *(0.45)
Nonroad Diesel Engines Tier I & II | 0.0 | *21.62
Marine Engine Standards | 1.79 | ***(0.07)
Railroads | 0.00 | 4.20
VOC RACT—Expandable Polystyrene | 0.10 | 0.00
VOC RACT—Yeast Production | 0.87 | 0.00
VOC RACT—Commercial Bakeries | 0.72 | 0.00
VOC RACT—Screen Printing | 0.20 | 0.00
Federal Air Toxics | 0.50 | 0.00
Lithographic Printers | 2.66 | 0.00
Flexographic and Rotogravure Printers | 0.90 | 0.00
Enhanced Rule Compliance | 5.10 | 0.00
State Air Toxics | 0.96 | 0.00
NOX RACT | 0.00 | 5.01
OTC NOX Phase II/III | 0.00 | *127.6
Nonroad RFG** | 1.39 | 0.00
OTC—Consumer Products** | 3.57 | 0.00
Large Spark Ignition Engines** | 0.75 | 0.54
Total | 112.43 | 214.48
* Estimated reductions revised from those in current, approved SIP in order to reflect updated growth and/or control strategy assumptions.
** New control measure with credit being applied to attaining ROP for 2005.
*** ( ) sign indicates increase in projected emissions.

(3) Summary of ROP Evaluation—Maryland's ROP demonstration for the Baltimore nonattainment area is summarized in tons per day in Table 8 below. The table shows that the projected control strategy inventories are less than or equal to the target level established for 2005. Therefore, the ROP plan demonstrates that emissions have been sufficiently reduced for the 2005 milestone year.

Table 8.—Baltimore Nonattainment Area ROP Demonstration
| 2005 VOC (tpd) | 2005 NOX (tpd)
Projected Uncontrolled Emissions (includes growth) (refer to tables 3 and 4) | 333.96 | 558.94
Reductions From Creditable Emission Control Measures (refer to table 5) | 112.43 | 214.48
Emissions Level Obtained (uncontrolled emissions minus emission reductions) | 221.53 | 344.47
Projected Target Levels (refer to tables 1 and 2) | 221.53 | 345.47
Surplus Emission Reductions (target levels minus emissions obtained) | 0.00 | 1.02

B. Motor Vehicle Emissions Budgets

Under EPA's transportation conformity rule, an ROP plan, like an attainment plan, is referred to as a control strategy SIP (40 CFR 93.124). A control strategy SIP identifies and establishes the MVEBs to which an area's transportation improvement program and long range transportation plan must conform. Conformity to a control strategy SIP means that transportation activities will not produce new air quality violations, worsen existing violations, or delay timely attainment of the national ambient air quality standard. Maryland is required to identify motor MVEBs for both NOX and VOCs in the Baltimore area's post 96 ROP plans. The MVEBs for the Baltimore area for the milestone year 2005 are shown in Table 9 below.

Table 9.—ROP Motor Vehicle Emission Budgets for the Baltimore Area
Attainment year | VOC (tpd) | NOX (tpd)
2005 | 55.05 | 144.5

EPA approved new 2005 MOBILE6 based MVEBs for the Baltimore attainment demonstration on October 27, 2003 (68 FR 61106). Those MVEBs became effective on November 26, 2003. The approved 2005 attainment plan MVEBs budgets are 55.3 tons per day of VOC and 146.9 tons per day of NOX. Maryland's 2005 proposed ROP MVEBs, as shown above in Table 7 are less than those MVEBS in the approved attainment demonstration. These more restrictive MVEBs, contained in the proposed ROP plan will become the applicable MVEBs to be used in transportation conformity demonstrations for the year 2005 for the Baltimore area once the ROP plan is approved.

C. Contingency Measures

Section 172(c)(9) of the Act requires moderate and above ozone nonattainment areas to adopt contingency measures that would have to be implemented should the area fail to achieve ROP or to attain by its attainment date. In addition, section 182(c)(9) of the Act requires serious and above areas to adopt contingency measures which would be implemented if the area fails to meet any applicable milestone.

In the revised Baltimore area ROP plan, Maryland has reallocated some of the contingency measures established in prior SIP revisions to the control measures portion of the 2005 ROP plan. EPA guidance allows states an additional year to adopt new contingency measures to replace those which are used. In its November 3, 2003 SIP revision submittal, MDE is making an enforceable commitment to replace those contingency measures reallocated to the control measures portion of the plan and to submit an updated contingency plan reflecting these additional contingency measures by October 31, 2004.

EPA's review of Maryland's SIP revisions indicates that the post-1996 ROP requirements of the Act have been met for the Baltimore ozone nonattainment area. EPA is proposing to approve the revisions to the ROP plan for Baltimore area for milestone year 2005 that was submitted by MDE on November 3, 2003. EPA is soliciting public comments on its proposal to approve these revisions to the 2005 ROP plan and the contingency measures as discussed in this document. Comments will be considered before taking final action. Interested parties may participate in the Federal rulemaking procedure by submitting written comments to the EPA Regional office listed in the ADDRESSES section of this document.

IV. Proposed EPA Action

EPA is proposing to approve the SIP revisions submitted by the State of Maryland on November 3, 2003. These revisions amend the Baltimore area's ROP plan for the 2005 milestone year to update the plan's emission inventories and MVEBs to reflect the use of MOBILE6 and continue to demonstrate that the ROP requirement for 2005 will be met. EPA is also proposing to approve the revisions submitted on November 3, 2003 which amend the contingency measures associated with the 2005 ROP plan, including an enforceable commitment to replace those contingency measures reallocated to the control measures portion of the plan, and to submit an updated contingency plan reflecting these additional contingency measures by October 31, 2004. These revisions are being proposed under a procedure called parallel processing, whereby EPA proposes rulemaking action concurrent with the state's procedures for amending its SIP. If the proposed revisions are substantially changed in areas other than those identified in this document, EPA will evaluate those changes and may publish another notice of proposed rulemaking. If no substantial changes are made other than those areas cited in this notice, EPA will publish a final rulemaking notice on the revisions. The final rulemaking action by EPA on these SIP revisions will occur only after Maryland has completed the state's procedures for amending the SIP and formally submitted the revisions to EPA for final approval. In addition, final approval of the November 3, 2003 revisions is contingent upon our approval of Maryland's new consumer product rule (COMAR 26.11.32) which was submitted to EPA on November 19, 2003 and was proposed by EPA for direct final approval on December 9, 2003 (68 FR 68523). EPA is soliciting public comments on the issues discussed in this document. These comments will be considered before taking final action. Interested parties may participate in the Federal rulemaking procedure by submitting either electronic or written comments. To ensure proper receipt by EPA, identify the appropriate rulemaking identification number MD146-3106 in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to Kotsch.Martin@EPA.gov, attention MD146-3106. EPA's e-mail system is not an “anonymous access” system. If you send an e-mail comment directly without going through Regulations.gov , EPA's e-mail system automatically captures your e-mail address. E-mail addresses that are automatically captured by EPA's e-mail system are included as part of the comment that is placed in the official public docket.

ii. Regulations.gov. Your use of Regulation.gov is an alternative method of submitting electronic comments to EPA. Go directly to Regulations.gov at http://www.regulations.gov, then select “Environmental Protection Agency” at the top of the page and use the “go” button. The list of current EPA actions available for comment will be listed. Please follow the online instructions for submitting comments. The system is an “anonymous access” system, which means EPA will not know your identity, e-mail address, or other contact information unless you provide it in the body of your comment.

iii. Disk or CD-ROM. You may submit comments on a disk or CD-ROM that you mail to the mailing address identified in the ADDRESSES section of this document. These electronic submissions will be accepted in WordPerfect, Word or ASCII file format. Avoid the use of special characters and any form of encryption.

2. By Mail. Written comments should be addressed to the EPA Regional office listed in the ADDRESSES section of this document.

For public commenters, it is important to note that EPA's policy is that public comments, whether submitted electronically or in paper, will be made available for public viewing at the EPA Regional Office, as EPA receives them and without change, unless the comment contains copyrighted material, confidential business information (CBI), or other information whose disclosure is restricted by statute. When EPA identifies a comment containing copyrighted material, EPA will provide a reference to that material in the version of the comment that is placed in the official public rulemaking file. The entire printed comment, including the copyrighted material, will be available at the Regional Office for public inspection.

Submittal of CBI Comments—Do not submit information that you consider to be CBI electronically to EPA. You may claim information that you submit to EPA as CBI by marking any part or all of that information as CBI (if you submit CBI on disk or CD-ROM, mark the outside of the disk or CD-ROM as CBI and then identify electronically within the disk or CD-ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD-ROM, mark the outside of the disk or CD-ROM clearly that it does not contain CBI. Information not marked as CBI will be included in the public file and available for public inspection without prior notice. If you have any questions about CBI or the procedures for claiming CBI, please consult the person identified in the FOR FURTHER INFORMATION CONTACT section.

Considerations When Preparing Comments to EPA

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

IV. Statutory and Executive Order Reviews

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This proposed action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4).

This proposed rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to approve a state rule implementing a Federal standard, and does not alter the relationship or the distribution of power and responsibilities established in the Clean Air Act.

This proposed rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

This rule proposing to approve revisions which amend the Baltimore area's ROP plan for the 2005 milestone year to update the plan's emission inventories and motor vehicle emissions budgets (MVEBs) to reflect the use of MOBILE6 and which amend the contingency measures associated with the 2005 ROP plan does not impose an information collection burden under the provisions of the Paperwork Reduction Act of 1995 (44 U.S.C. 3501 et seq.).

List of Subjects in 40 CFR Part 52

Environmental protection, Air pollution control, Intergovernmental relations, Nitrogen dioxide, Ozone, Reporting and recordkeeping requirements, Volatile organic compounds.

Authority: 42 U.S.C. 7401 et seq.

Dated: December 19, 2003.
Thomas Voltaggio,
Acting Regional Administrator, Region III.

[FR Doc. 03-32028 Filed 12-29-03; 8:45 am]

BILLING CODE 6560-50-P